DEPARTMENT OF COMMERCE

National Oceanic and Atmospheric Administration

RIN 0648-XG842

Endangered and Threatened Species; Take of Anadromous Fish

AGENCY: National Marine Fisheries Service (NMFS), National Oceanic and Atmospheric Administration (NOAA), Commerce.

ACTION: Applications for one new scientific research permit, two permit modifications, and one permit renewal.

SUMMARY: Notice is hereby given that NMFS has received four scientific research permit application requests relating to Pacific salmon, steelhead, and eulachon. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5 p.m. Pacific standard time on April 8, 2019.

ADDRESSES: Written comments on the applications should be sent to the Protected Resources Division, NMFS, 1201 NE Lloyd Blvd., Suite 1100, Portland, OR 97232-1274. Comments may also be sent via fax to 503-230-5441 or by email to nmfs.nwr.apps@noaa.gov (include the permit number in the subject line of the fax or email).

FOR FURTHER INFORMATION CONTACT: Rob Clapp, Portland, OR (ph.: 503-231-2314), Fax: 503-230-5441, email: Robert.Clapp@noaa.gov). Permit application instructions are available from the address above, or online at https://apps.nmfs.noaa.gov.

SUPPLEMENTARY INFORMATION:

Species Covered in This Notice

The following listed species are covered in this notice:

Chinook salmon (Oncorhynchus tshawytscha): Endangered upper Columbia River (UCR); threatened Snake River (SR) spring/summer-run; threatened SR fall-run.

Steelhead (O. mykiss): Threatened UCR; threatened SR; threatened middle Columbia River (MCR).

Sockeye salmon (O. nerka): Endangered SR.

Authority

Scientific research permits are issued in accordance with section 10(a)(1)(A) of the ESA (16 U.S.C. 1531 et. seq) and regulations governing listed fish and wildlife permits (50 CFR 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1127—5R

The Shoshone-Bannock Tribes are seeking to renew a permit that allows them to annually take listed SR Chinook salmon and steelhead while conducting research designed to (1) monitor adult and juvenile fish in key upper Snake River subbasin watersheds, (2) assess the utility of hatchery Chinook salmon in increasing natural populations in the Salmon River, and (3) evaluate the genetic and ecological impacts hatchery Chinook salmon may have on natural populations. The fish would primarily benefit from the research in two ways. First, the research would broadly be used to help guide restoration and recovery efforts throughout the Snake River basin. Second, the research would be used to determine how hatchery supplementation can be used as a tool for salmon recovery. The researchers would use screw traps, weirs, electrofishing, and hook-and-line angling gear to capture the listed fish. Once captured, the fish would undergo various sampling, tagging, and handling regimes; they would then be allowed to recover and released. Some tissue samples would be taken from adult fish carcasses, and the researchers would conduct some snorkeling surveys and redd counts. In all cases, trained crews would conduct the operations, no adult salmonids would be electrofished, and all activities would take place in the Salmon River subbasin. The researchers are not proposing to kill any of the fish they capture, but some may die as an unintended result of the research.

18696—3M

The Idaho Power company is seeking to modify a five-year permit that allows them to annually capture juvenile white sturgeon in Lower Granite Reservoir. The researchers currently use small-mesh gill nets and d-ring nets to capture the fish. They would expand upon these efforts by adding a benthic (near-bottom) trawl in Lower Granite Reservoir and doing additional gill netting upstream from that reservoir. The gill net fishing would take place at times (October and November) and in areas (the bottom of the reservoir and river) that have purposefully been chosen to have the least possible impact on listed fish. When the nets are pulled to the surface, listed species would immediately be released (including by cutting the net, if necessary) and allowed to return to the reservoir. The d-ring fishing would take place in June and July, but the same restrictions (immediately releasing listed fish, etc.) would still apply. The purpose of the research is to document sturgeon survival in early life stages in the mainstem Snake River. The research targets a species that is not listed, but the research would benefit listed salmonids by generating information about the habitat conditions near and in Lower Granite Reservoir and by helping managers develop conservation plans for the species that inhabit those areas. The researchers are not proposing to kill any of the fish they capture, but a small number of individuals may be killed as an inadvertent result of the activities.

Permit 21571—2M

The United States Geological Survey is seeking to modify a five-year permit that currently allows them to conduct research on migration survival among middle Columbia River steelhead in the Yakima River system in Washington State. The research looks at how well the listed fish are surviving passage through various reaches of the Yakima River. The researchers would modify the permit by adding 115 more juvenile MCR steelhead to the number they are allowed to capture. This is being done in response to the catch levels they logged in 2018.

The research would benefit the listed fish by helping managers understand what survival risks the young salmonids face when migrating downriver in the Yakima system. The managers would then be able to use that information to take actions designed to increase fish survival. The USGS researchers would capture juvenile MCR steelhead and tag them with acoustic and passive integrated transponder (PIT) tags. They would then use PIT tag detectors and acoustic receivers to follow the fish as they move downstream. The researchers would also use boat electrofishing equipment to count predators in several reaches, but they would not use that equipment to capture any listed animals for handling, and adult steelhead would be avoided in all cases. The researchers do not intend to kill any listed animals, but a small number may die as an inadvertent result of the planned activities.

Permit 22381

The Yakama Nation is seeking a five-year permit that would allow them to evaluate benefits and limitations of connecting side channel systems using groundwater infiltration galleries in salmon habitat. The project is designed to determine how side-channel reconnection affects juvenile salmonid abundance and rearing conditions. It would also explore the potential impacts that thermally enhanced flows may have on juvenile salmonid growth and survival. Metrics of juvenile growth and survival collected from the side channels would be compared to similar data collected by co-managing agencies that are monitoring other recently completed non-groundwater based side channel restoration actions in the Methow Basin, Washington State. The research would benefit listed fish by providing information on their status and helping improve recovery efforts.

The researchers would conduct snorkel- and spawning-ground surveys and would use electrofishing equipment to capture juvenile UCR Chinook and steelhead. The captured fish would be anesthetized, measure, weighed, scanned, and implanted with PIT tags. The fish would then be allowed to recover in live boxes and released back to the sites of their capture. The researchers do not intend to kill any listed fish, but some may die as an inadvertent result of the planned activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: March 4, 2019.
Angela Somma,
Chief, Endangered Species Division, Office of Protected Resources, National Marine Fisheries Service.

[FR Doc. 2019-04181 Filed 3-7-19; 8:45 am]

BILLING CODE 3510-22-P